ENVIRONMENTAL PROTECTION AGENCY

40 CFR Part 112

Oil Pollution Prevention

CFR Correction

In Title 40 of the Code of Federal Regulations, Parts 100 to 135, revised as of July 1, 2010, on page 71, in Appendix E to Part 112, the second section 5.1 is removed.

[FR Doc. 2011-8328 Filed 4-5-11; 8:45 am]

BILLING CODE 1505-01-D